DEPARTMENT OF THE INTERIOR

National Park Service

[NPS-PWR-PWRO-17665; PX.PR118981J.00.1]

Draft Environmental Impact Statement/General Management Plan, Kalaupapa National Historical Park, Kalawao and Maui Counties, Hawaii

AGENCY: National Park Service, Interior.

ACTION: Notice of availability.

SUMMARY: The National Park Service announces the availability of a Draft General Management Plan (GMP)/Environmental Impact Statement (EIS) for Kalaupapa National Historical Park. The document identifies and analyzes four alternatives. Alternative A (no action alternative) assumes that programming, facilities, staffing, and funding would generally continue at their current levels to protect the values of Kalaupapa NHP in the near term. Alternative B focuses on maintaining Kalaupapa's spirit and character through limiting visitation. Visitor use would be highly structured, though limited opportunities would exist for public visitation and overnight use. The NPS would develop an extensive outreach program to share Kalaupapa's history with a wide audience at off-site locations. Alternative C (agency-preferred) emphasizes stewardship of Kalaupapa's lands in collaboration with the park's many partners. Kalaupapa's diverse resources would be managed to protect and maintain their character and historical significance. Visitation by the general public would be supported, provided, and integrated into park management. Visitor regulations would change, while continuing to limit the number of visitors per day through new mechanisms. Alternative D focuses on the personal connections to Kalaupapa through visitation by the general public. Resources would be managed for long-term preservation through NPS-led programs throughout the park. Alternative D offers visitors the greatest opportunities to explore areas on their own. Visitor regulations would be similar to Alternative C.

DATES: All comments on the Draft EIS must be postmarked or transmitted no later than 60 days after the date the Environmental Protection Agency publishes its notice of the filing and release of the document in the Federal Register. Immediately upon confirmation of this date, updated information—including dates, times, and locations of public meetings—will be announced on the project Web site http://parkplanning.nps.gov/kala, in local and regional press media, and will also be available by contacting Kalaupapa National Historical Park.

ADDRESSES: Written comments may be submitted by one of two methods: mail or hand-deliver comments to Kalaupapa National Historical Park, Attn: DEIS—GMP, P.O. Box 2222, Kalaupapa, HI 96742, (808) 567-6802. Or you may submit comments via the Web site noted above. Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Ms. Erika Stein Espaniola, Superintendent, Kalaupapa National Historical Park, P.O. Box 2222, Kalaupapa, HI 96742; (808) 567-6802 x1100.

Ms. Anna Tamura, Project Manager, NPS Pacific West Regional Office, 909 1st Avenue, Seattle, WA 98104; (206) 220-4157.

SUPPLEMENTARY INFORMATION: Kalaupapa National Historical Park was established as a unit of the National Park System on December 22, 1980. The park is oriented toward patient privacy and maintaining the patients' lifestyles, and the patients are guaranteed they may remain at Kalaupapa as long as they wish. These park purposes will continue as long as there is a resident Hansen's disease patient community at Kalaupapa. In addition, the purpose of Kalaupapa National Historical Park is to honor the history of the isolated Hansen's disease community by preserving and interpreting its site and values. The historical park also tells the story of the rich Hawaiian culture and traditions at Kalaupapa that go back at least 900 years.

Kalaupapa NHP encompasses 8,725 acres of land and 2,000 acres of water. Federally owned land at Kalaupapa NHP includes only 23 acres. The remainder of the park land is currently in non-Federal ownership, managed under a lease and cooperative agreements mandated by legislation. The NPS has a fifty year lease agreement for the approximately 1,300 acres of the Kalaupapa Settlement owned by the Department of Hawaiian Home Lands (DHHL). The remainder of the land is owned by the State of Hawaii. Formal 20-year cooperative agreements for management have been signed with the State of Hawaii Departments of Health (DOH), Transportation (DOT), and Land and Natural Resources (DLNR); the Roman Catholic Church; and the United Church of Christ. The State Department of Health has substantial control over activities in Kalaupapa.

The legislation establishing the park specifically directs a reevaluation of park management: “At such time when there is no longer a resident patient community at Kalaupapa, the Secretary shall reevaluate the policies governing the management, administration, and public use of the park in order to identify any changes deemed to be appropriate.” (Public Law 95-565, § 109). Approximately fifteen Hansen's disease patients still reside at Kalaupapa, either in their own homes or at Kalaupapa's hospital/care-home. Most of these patients are elderly and in poor health. Thus, a very critical need is to engage the patients in a dialog about the future when there no longer is a patient community residing in the park. Participation by the patient community has been a key element to the overall process.

Kalaupapa NHP has never had a formal general management plan. The proposed GMP is intended to addresses major issues including: Resource management, visitor use and access, analysis of potential boundary modifications, and the expected shift from co-management with the State of Hawaii Department of Health (DOH) to a future when the DOH and the living patient community are no longer at Kalaupapa.

Decision Process: All comments received on the Draft EIS will be duly considered in preparing the Final EIS. The Final EIS is expected to be available during the summer, 2016. Subsequently a Record of Decision would be prepared not sooner than 30 days after release of the Final EIS. Because this is a delegated EIS, the official responsible for approving the final plan is the Regional Director, Pacific West Region, National Park Service. The official responsible for implementation of the approved plan is the Superintendent, Kalaupapa National Historical Park.

Dated: February 11, 2015.
Patricia L. Neubacher,
Acting Regional Director, Pacific West Region.

[FR Doc. 2015-08270 Filed 4-9-15; 8:45 am]

BILLING CODE 4312-FF-P